DEPARTMENT OF DEFENSE

Office of the Secretary

32 CFR Part 318

[Docket ID: DOD-2019-OS-0057]

RIN 0790-AK64

Defense Threat Reduction Agency Privacy Program

AGENCY: Defense Threat Reduction Agency, DoD.

ACTION: Final rule.

SUMMARY: This final rule removes the Department of Defense (DoD) regulation concerning the Defense Threat Reduction Agency (DTRA) Privacy Program. On April 11, 2019, DoD published a revised DoD-level Privacy Program rule, which contains the necessary information for an agency-wide privacy program regulation under the Privacy Act and now serves as the single Privacy Program rule for the Department. That revised Privacy Program rule also includes all DoD component exemption rules. Therefore, this part is now unnecessary and may be removed from the CFR.

DATES: This rule is effective on September 5, 2019.

FOR FURTHER INFORMATION CONTACT: Pamela Andrews, 703-767-1792.

SUPPLEMENTARY INFORMATION: DoD now has a single DoD-level Privacy Program rule at 32 CFR part 310 (84 FR 14728) that contains all the codified information required for the Department. The DTRA Program regulation at 32 CFR part 318, last updated on April 10, 2000 (65 FR 18894), is no longer required and can be removed.

It has been determined that publication of this CFR part removal for public comment is impracticable, unnecessary, and contrary to public interest since it is based on the removal of policies and procedures that are either now reflected in another CFR part, 32 CFR part 310, or are publicly available on the Department's website. To the extent that the DTRA internal guidance concerning the implementation of the Privacy Act within DTRA is necessary, it will continue to be published in DTRA Instruction 5400.11, “Defense Threat Reduction Agency (DTRA) Instruction Privacy Program,” available at https://www.dtra.mil/Portals/61/DTRA%20Instruction%205400_11.pdf (November 13, 2007).

This rule is one of 20 separate component Privacy rules. With the finalization of the DoD-level Privacy rule at 32 CFR part 310, the Department eliminated the need for this component Privacy rule, thereby reducing costs to the public as explained in the preamble of the DoD-level Privacy rule published on April 11, 2019, at 84 FR 14728-14811.

This rule is not significant under Executive Order (E.O.) 12866, “Regulatory Planning and Review.” Therefore, E.O. 13771, “Reducing Regulation and Controlling Regulatory Costs,” does not apply.

List of Subjects in 32 CFR Part 318

Privacy.

PART 318—[REMOVED]

Accordingly, by the authority of 5 U.S.C. 301, 32 CFR part 318 is removed.

Dated: August 30, 2019.
Aaron T. Siegel,
Alternate OSD Federal Register Liaison Officer, Department of Defense.

[FR Doc. 2019-19168 Filed 9-4-19; 8:45 am]

BILLING CODE 5001-06-P